ENVIRONMENTAL PROTECTION AGENCY

[ER-FRL-9043-4]

Environmental Impact Statements; Notice of Availability

Responsible Agency: Office of Federal Activities, General Information 202-564-5632 or https://www.epa.gov/nepa/.

Weekly receipt of Environmental Impact Statements

Filed 02/04/2019 Through 02/08/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190006, Draft, HHS, WV, Acquisition of Site for Development of a Replacement Underground Safety Research Program Facility in Mace, West Virginia, Comment Period Ends: 04/05/2019, Contact: Sam Tarr 770-488-2408

EIS No. 20190007, Final, USCG, AK, Polar Security Cutter Acquisition Program Final Programmatic Environmental Impact Statement, Review Period Ends: 03/18/2019, Contact: Christine Wiegand 202-475-3742

EIS No. 20190008, Final, USFS, CBP, ID, Bog Creek Road Project, Review Period Ends: 04/02/2019, Contact: Joseph Zidron 949-643-6392

EIS No. 20190009, Final, USFS, ID, Little Boulder, Review Period Ends: 04/01/2019, Contact: Johanna Kovarik 208-476-8344

EIS No. 20190010, Final, USFS, CO, Crested Butte Mountain Resort Ski Area Projects, Review Period Ends: 04/01/2019, Contact: Aaron Drendel 970-641-0471

EIS No. 20190011, Draft, BLM, NV, Gemfield Mine Project, Comment Period Ends: 04/10/2019, Contact: Kevin Hurrell 775-635-4000

EIS No. 20190012, Final Supplement, GSA, CA, San Ysidro Land Port of Entry Improvements Project, Review Period Ends: 03/18/2019, Contact: Osmahn Kadri 415-522-3617

EIS No. 20190013, Final, DOE, LA, ADOPTION—Port Arthur Liquefaction Project, Texas Connector Project, and Louisiana Connector Project, Contact: Brian Lavoie 202-586-2459

The Department of Energy (DOE) has adopted the Federal Energy Regulatory Commission's Final EIS No. 20190003, filed 01/31/2019 with the EPA. DOE was a cooperating agency on this project. Therefore, recirculation of the document is not necessary under Section 1506.3(c) of the CEQ regulations.

Amended Notices

EIS No. 20180302, Draft Supplement, NMFS, WA, 10 Salmon and Steelhead Hatchery Programs in the Duwamish-Green River Basin, Comment Period Ends: 03/01/2019, Contact: Allyson Purcell 503-736-4736. Revision to FR Notice Published 12/07/2018; NOAA has reopened the comment period to end on 03/01/2019.

EIS No. 20180303, Draft, BOEM, MA, Vineyard Wind Offshore Wind Energy Project, Comment Period Ends: 02/22/2019, Contact: Michelle Morin 703-787-1722. Revision to FR Notice Published 12/07/2018; Extending the Comment Period from 01/21/2019 to 02/22/2019.

EIS No. 20180328, Draft, CTDOH, CT, Resilient Bridgeport, Comment Period Ends: 03/18/2019, Contact: Rebecca French 860-270-8231. Revision to FR Notice Published 02/01/2109; Correction Lead Agency from HUD to CTDOH.

Dated: February 12, 2019.
Robert Tomiak,
Director, Office of Federal Activities.

[FR Doc. 2019-02454 Filed 2-14-19; 8:45 am]

BILLING CODE 6560-50-P